DEPARTMENT OF ENERGY

Federal Energy Regulatory Commission

[Project No. 12745-002]

Modesto Irrigation District and Turlock Irrigation District; Notice of Preliminary Permit Application Accepted for Filing and Soliciting Comments, Motions to Intervene, and Competing Applications

June 16, 2010.

On February 1, 2010, Modesto Irrigation District and Turlock Irrigation District filed an application for a preliminary permit, pursuant to section 4(f) of the Federal Power Act, proposing to study the feasibility of the Red Mountain Bar Pumped Storage Project located on the Tuolomne River, Don Pedro reservoir, in Tuolomne County, California. The sole purpose of a preliminary permit, if issued, is to grant the permit holder priority to file a license application during the permit term. A preliminary permit does not authorize the permit holder to perform any land-disturbing activities or otherwise enter upon lands or waters owned by others without the owners' express permission.

The proposed pumped storage project would consist of the following new and existing facilities:

Alternative A (Single Speed Unit)—(1) An upper reservoir with a total active storage capacity of 34,000 acre-feet and a surface area of 244 acres at maximum normal water surface elevation of 1,570 feet above mean sea level (msl); (2) a one-half-mile-long, 34-foot-diameter tunnel to connect the upper reservoir with the existing Don Pedro reservoir; (3) a powerhouse with pump/turbines having an installed capacity of approximately 900 megawatts (MW); (4) an intake on the existing Don Pedro reservoir, which would be used as the lower reservoir; and (5) a 47-mile-long, 230-kilovolt transmission line. Alternative A of the proposed project would have an annual generation of 1,573,000 megawatt-hours (MWh).

Alternative B (Variable Speed Unit)—(1) An upper reservoir with a total active storage capacity of 34,000 acre-feet and a surface area of 244 acres at maximum normal water surface elevation of 1,570 feet msl; (2) a 1.1-mile-long, 37-foot-diameter tunnel to connect the upper reservoir with the existing Don Pedro reservoir; (3) a powerhouse with pump/turbines having an installed capacity of approximately 1,000 MW; (4) an intake on the existing Don Pedro reservoir, which would be used as the lower reservoir; and (5) a 47-mile-long, 230-kilovolt transmission line. Alternative B of the proposed project would have an annual generation of 1,747,000 MWh.

Applicant Contact: Donald H. Clarke, Law Offices of GKRSE, 1500 K Street, NW., Washington, DC 20005; phone: (202) 408-5400.

FERC Contact: Jim Hastreiter, 503-552-2760.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text-only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-12745) in the docket number field to access the document. For assistance, contact FERC Online Support.

Kimberly D. Bose,
Secretary.

[FR Doc. 2010-15139 Filed 6-22-10; 8:45 am]

BILLING CODE 6717-01-P